DEPARTMENT OF COMMERCE

International Trade Administration

[A-522-802]

Certain Frozen Warmwater Shrimp From the Socialist Republic of Vietnam: Initiation of Antidumping Duty New Shipper Review

AGENCY: Import Administration, International Trade Administration, Department of Commerce.

SUMMARY: The Department of Commerce (“the Department”) has determined that a request for a new shipper review (“NSR”) of the antidumping duty order on certain frozen warmwater shrimp from the Socialist Republic of Vietnam (“Vietnam”) meets the statutory and regulatory requirements for initiation.

DATES: Effective September 27, 2013.

FOR FURTHER INFORMATION CONTACT: Katie Marksberry, AD/CVD Operations, Office 9, Import Administration, International Trade Administration, U.S. Department of Commerce, 14th Street and Constitution Avenue NW., Washington, DC 20230; telephone: 202-482-7906.

SUPPLEMENTARY INFORMATION:

Background

The notice announcing the antidumping duty order on shrimp from Vietnam was published in the Federal Register on February 1, 2005.¹ On August 30, 2013, pursuant to section 751(a)(2)(B)(i) of the Tariff Act of 1930, as amended (“the Act”), and 19 CFR 351.214, the Department received a timely request to conduct an NSR of the Order from Goldenquality Seafood Corporation (“Goldenquality”).² Goldenquality has certified that it is the producer and exporter of the subject merchandise upon which the request was based.³

¹ See Notice of Amended Final Determination of Sales at Less Than Fair Value and Antidumping Duty Order: Certain Frozen Warmwater Shrimp From the Socialist Republic of Vietnam, 70 FR 5152 (February 1, 2005) (“Order”).

² See, generally, Goldenquality's NSR request dated August 30, 2013.

³ See id., at 2.

Pursuant to section 751(a)(2)(B)(i)(I) of the Act and 19 CFR 351.214(b)(2)(i), Goldenquality certified that it did not export subject merchandise to the United States during the period of investigation (“POI”).⁴ In addition, pursuant to section 751(a)(2)(B)(i)(II) of the Act and 19 CFR 351.214(b)(2)(iii)(A), Goldenquality certified that, since the initiation of the investigation, it has never been affiliated with any Vietnam exporter or producer who exported subject merchandise to the United States during the POI, including those respondents not individually examined during the investigation.⁵ As required by 19 CFR 351.214(b)(2)(iii)(B), Goldenquality also certified that its export activities were not controlled by the Vietnam central government.⁶

⁴ See id., at 2 and Exhibit 1.

⁵ See id.

⁶ See id., at 2.

In addition to the certifications described above, pursuant to 19 CFR 351.214(b)(2)(iv), Goldenquality submitted documentation establishing the following: (1) The date on which it first shipped subject merchandise for export to the United States; (2) the volume of its first shipment; and (3) the date of its first sale to an unaffiliated customer in the United States.⁷

⁷ See id., at 2-3 and Exhibits 2-4.

Initiation of New Shipper Reviews

Pursuant to section 751(a)(2)(B) of the Act and 19 CFR 351.214(d)(1), we find that Goldenquality's NSR request meets the threshold requirements for initiation of an NSR for the shipment of certain frozen warmwater shrimp from Vietnam produced and exported by Goldenquality.⁸ The period of review (“POR”) is February 1, 2013 through July 31, 2013.⁹ The Department intends to issue the preliminary results of this NSR no later than 180 days from the date of initiation, and the final results no later than 270 days from the date of initiation.¹⁰

⁸ See “Memorandum to the File, from James C. Doyle, Director, Office 9, “Initiation of AD New Shipper Review: Certain Frozen Warmwater Shrimp From the Socialist Republic of Vietnam A-552-802,” dated concurrently with this notice.

⁹ See 19 CFR 351.214(g)(1)(i)(B).

¹⁰ See section 751(a)(2)(B)(iv) of the Act.

It is the Department's usual practice, in cases involving non-market economies (“NMEs”), to require that a company seeking to establish eligibility for an antidumping duty rate separate from the NME entity-wide rate provide evidence of de jure and de facto absence of government control over the company's export activities. Accordingly, we will issue a questionnaire to Goldenquality, which will include a section requesting information with regard to its export activities for separate rate purposes. The NSR will proceed if the response provides sufficient indication that Goldenquality is not subject to either de jure or de facto government control with respect to its exports of subject merchandise.

We will instruct U.S. Customs and Border Protection to allow, at the option of the importer, the posting, until the completion of the NSR, of a bond or security in lieu of a cash deposit for each entry of the subject merchandise from Goldenquality in accordance with section 751(a)(2)(B)(iii) of the Act and 19 CFR 351.214(e). Because Goldenquality certified that it produced and exported the subject merchandise, the sale of which is the basis for this NSR request, we will apply the bonding privilege to Goldenquality only for subject merchandise which Goldenquality both produced and exported.

Interested parties requiring access to proprietary information in this NSR should submit applications for disclosure under administrative protective order in accordance with 19 CFR 351.305 and 19 CFR 351.306.

This initiation and notice are published in accordance with section 751(a)(2)(B) of the Act and 19 CFR 351.214 and 351.221(c)(1)(i).

Dated: September 18, 2013.
Christian Marsh,
Deputy Assistant Secretary for Antidumping and Countervailing Duty Operations.

[FR Doc. 2013-23635 Filed 9-26-13; 8:45 am]

BILLING CODE 3510-DS-P